DEPARTMENT OF HEALTH AND HUMAN SERVICES

Centers for Disease Control and Prevention

[30Day-11-11BB]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC 20503 or by fax to (202) 395-5806. Written comments should be received within 30 days of this notice.

Proposed Project

Crime Prevention Through Environmental Design: Linking Observed School Environments with Student and School-wide Experiences of Violence and Fear—New—National Center for Injury Prevention and Control (NCIPC), Centers for Disease Control and Prevention (CDC).

Background and Brief Description

Among the goals of the Centers for Disease Control and Prevention (CDC), National Center for Injury Prevention and Control (NCIPC) is to reduce the prevalence of violence among youth. Several important priorities included in the Center's published research agenda focus on studying how physical environments influence behavior and risk for violence. The CDC has developed an observational tool called the Crime Prevention Through Environmental Design (CPTED) School Assessment (CSA) to assess the extent to which the physical characteristics of schools are consistent with Crime Prevention Through Environmental Design (CPTED) principles. The proposed research will allow an assessment of the validity of the CSA by examining the extent to which the CSA subscales, total CSA scores, and CPTED principles are related to fear and violence, and related variables. If the CSA tool is shown to measure characteristics of the school environment that are associated with fear and violence-related behaviors in school, then it may be used as the basis for research, design, and evaluation of interventions for schools seeking to prevent or reduce the occurrence of crime and violence. This may help formulate guidance for schools related to (re)designing physical features of the environment and changing policies and procedures related to using the school environment.

In addition, an exploratory purpose of this research is to determine whether the CSA items can be divided reliably into supposedly distinct variables reflecting each of the CPTED principles. If we produce practical support for the assessment of these “CPTED variables,” then we will also assess validity by determining whether these variables are logically related to our measures of fear, violence and climate in schools.

Survey data from 75 students (25 each from 6th, 7th, and 8th grades) per school site will be collected from 50 middle schools selected and recruited from 13 school districts in the metro-Atlanta, Georgia area (approximately 3,750 total student participants), in addition to the observational (CSA) data collection. The student survey will assess variables such as school climate, and actual and perceived levels of school violence at each school. In addition, archival/administrative data will be collected from each of the 50 schools on a School Site Data Form providing information on neighborhood and school characteristics from various sources (e.g., school site information reported by the school administrator, school district data available on the web, U.S. Census data, and school disciplinary records). There are no costs to respondents other than their time. The total annualized burden hours are 2650.

Estimated Annualized Burden Hours
Form name | Number of respondents | Number of responses per respondent | Average burden response (in hours)
CPTED Student Survey | 3,750 | 1 | 40/60
CPTED Student Survey Data Collection Checklist (DCC) | 150 | 1 | 20/60
CPTED School Site Data Form | 50 | 1 | 2

Dated: May 9, 2011.
Daniel Holcomb,
Reports Clearance Officer, Centers for Disease Control and Prevention.

[FR Doc. 2011-11936 Filed 5-13-11; 8:45 am]

BILLING CODE 4163-18-P